DEPARTMENT OF HEALTH AND HUMAN SERVICES

Centers for Medicare & Medicaid Services

[CMS-3158-N]

Medicare Program; Request for Nominations for Members for the Medicare Coverage Advisory Committee

AGENCY: Centers for Medicare & Medicaid Services (CMS), HHS.

ACTION: Notice.

SUMMARY: This notice requests nominations for consideration for membership on the Medicare Coverage Advisory Committee (MCAC).

DATES: Nominations will be considered if received at the designated address, as provided in the ADDRESSES section of this notice, no later than 5 p.m. on August 25, 2005.

ADDRESSES: Mail nominations for membership to the following address: Centers for Medicare & Medicaid Services, Office of Clinical Standards and Quality, Attention: Kimberly Long, 7500 Security Blvd., Mail Stop: Central Building 1-09-06, Baltimore, MD 21244.

A copy of the Secretary's Charter for the Medicare Coverage Advisory Committee can be obtained from Maria Ellis, Office of Clinical Standards and Quality, Centers for Medicare & Medicaid Services, 7500 Security Blvd., Mail Stop: Central Building 1-09-06, Baltimore, MD 21244, or by e-mail to Maria.Ellis@cms.hhs.gov. The Charter is also posted on the Web at http://www.cms.hhs.gov/mcac/8b1-1.asp.

FOR FURTHER INFORMATION CONTACT: Kimberly Long, 410-786-5702.

SUPPLEMENTARY INFORMATION:

I. Background

On December 14, 1998, we published a notice in the Federal Register (63 FR 68780) announcing establishment of the Medicare Coverage Advisory Committee (MCAC). The Secretary signed the initial Medicare Coverage Advisory Committee Charter on November 24, 1998. The charter was renewed by the Secretary and will terminate on November 24, 2006, unless renewed again by the Secretary.

The Medicare Coverage Advisory Committee is governed by provisions of the Federal Advisory Committee Act (Pub. L. 92-463), as amended (5 U.S.C. App. 2), which sets forth standards for the formulation and use of advisory committees, and is authorized by section 222 of the Public Health Service Act, as amended (42 U.S.C. 217A).

The MCAC consists of a pool of 100 appointed members. Members are selected from among authorities in clinical medicine of all specialties, administrative medicine, public health, biologic and physical sciences, health care data and information management and analysis, patient advocacy, the economics of health care, medical ethics, and other related professions (for example, epidemiology and biostatistics), and methodology of trial design. A maximum of 88 members are standard voting members, and 12 are nonvoting members (6 of whom are representatives of consumer interests, and 6 of whom are representatives of industry interests).

The MCAC functions on a committee basis. The committee reviews and evaluates medical literature, reviews technology assessments, and examines data and information on the effectiveness and appropriateness of medical items and services that are covered or are eligible for coverage under Medicare. The Committee works from an agenda provided by the Designated Federal Official that lists specific issues and develops technical advice to assist us in determining reasonable and necessary applications of medical services and technology when making national coverage decisions for Medicare.

As of November 2005, there will be 15 terms of membership expiring, one of which is a non-voting industry representative. Accordingly, we are requesting nominations for both voting and nonvoting members to serve on the MCAC. Nominees are selected based upon their individual qualifications, and not as representatives of professional associations or societies. We have a special interest in ensuring that women, minority groups, and physically challenged individuals are adequately represented on the MCAC. Therefore, we encourage nominations of qualified candidates from these groups.

All nominations must be accompanied by curricula vitae. Nomination packages must be sent to Kimberly Long at the address listed in the Addresses section.

II. Criteria for Committee Members

Nominees for voting membership must have expertise and experience in one or more of the following fields: Clinical medicine of all specialties, administrative medicine, public health, patient advocacy, biologic and physical sciences, health care data and information management and analysis, the economics of health care, medical ethics, and other related professions (for example, epidemiology and biostatistics), and methodology of trial design.

We are also seeking nominations for one nonvoting industry representative. Nominees for this position must possess appropriate qualifications to understand and contribute to the MCAC's work.

The nomination letter must include a statement that the nominee is willing to serve as a member of the MCAC and appears to have no conflict of interest that would preclude membership. We are requesting that all curricula vitae include the following: Date of birth, place of birth, social security number, title and current position, professional affiliation, home and business address, telephone and fax numbers, e-mail address, and a list of areas of expertise. In the nominations letter, we are requesting that the nominee specify whether applying for a voting membership position or the industry representative nonvoting position. Potential candidates will be asked to provide detailed information concerning financial holdings, consultancies, and research grants or contracts in order to permit evaluation of possible sources of conflict of interest.

Members are invited to serve for overlapping 2-year terms. A member can serve after the expiration of the member's term until a successor takes office. Any interested person may nominate one or more qualified persons. Self-nominations are also accepted.

Authority: 5 U.S.C. App. 2, section 10(a)(1) and (a)(2).

(Catalog of Federal Domestic Assistance Program No. 93.774, Medicare—Supplementary Medical Insurance Program)

Dated: June 16, 2005.
Barry M. Straube,
Acting Chief Medical Officer, Acting Director, Office of Clinical Standards and Quality, Centers for Medicare & Medicaid Services.

[FR Doc. 05-14150 Filed 7-21-05; 8:45 am]

BILLING CODE 4120-01-P